NUCLEAR REGULATORY COMMISSION

Public Meeting on an Overview of Activities Related to the Potential High-Level Waste Repository at Yucca Mountain, NV

AGENCY: Nuclear Regulatory Commission.

ACTION: Notice of public meeting in Mesquite, Nevada.

SUMMARY: The U.S. Nuclear Regulatory Commission (NRC) staff will hold a public meeting on the high-level waste repository licensing process. The meeting is intended to foster a common understanding among the stakeholders on issues that would be associated with the licensing process, should the U.S. Department of Energy (DOE) submit a license application to the NRC for a possible geologic repository at Yucca Mountain, Nevada. All meetings will be facilitated by Francis X. Cameron, Special Counsel for Public Liaison, of the NRC Office of the General Counsel.

The meeting is primarily to acquaint the public with the NRC's high-level waste licensing process. It will begin with an overview of the licensing process, followed by NRC presentations on the role of the NRC technical staff in evaluating the DOE license application, and the NRC role with respect to the transportation of high-level waste. An opportunity for questions will be provided. In addition, members of the NRC staff will be available for informal discussion with members of the public. The time, date, and location of the Public Meeting is shown below.

Time/Date: Thursday, May 24, 2001, from 5:30 p.m.-7 p.m. (Pacific time).

Place: Mesquite City Hall, Council Chamber, 10 E. Mesquite Boulevard, Mesquite, Nevada.

FOR FURTHER INFORMATION CONTACT: Francis X. Cameron, Special Counsel for Public Liaison, Office of the General Counsel, U.S. Nuclear Regulatory Commission, Washington DC 20555-0001, or by telephone: (301) 415-1642 or e-mail: fxc@nrc.gov.

Dated at Rockville, Maryland this 8th day of May, 2001.
For the Nuclear Regulatory Commission,
Newton K. Stablein,
Acting Chief, High-Level Waste and Performance Assessment Branch, Division of Waste Management, Office of Nuclear Material Safety and Safeguards.

[FR Doc. 01-12037 Filed 5-11-01; 8:45 am]

BILLING CODE 7590-01-P